DEPARTMENT OF LABOR

Employment and Training Administration

[TA-W-60,870]

Lear Corporation, Now Known as International Automotive Components Group, Interior Systems Division, Sidney, OH; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on March 15, 2007, applicable to workers of Lear Corporation, Interior Systems Division, Sidney, Ohio. The notice was published in the Federal Register on March 30, 2007 (72 FR 15168).

At the request of a company official, the Department reviewed the certification for workers of the subject firm. The workers are engaged in the production of automotive carpeting (for full floor, deck lids, cargo panels and trunks).

New information shows that following a merger on April 1, 2007, Lear Corporation, is now known as International Automotive Components Group (IAC).

Workers separated from employment at the subject firm had their wages reported under a separate unemployment insurance (UI) tax account for International Automotive Components Group (IAC), Interior Systems Division.

Accordingly, the Department is amending this certification to properly reflect this matter.

The intent of the Department's certification is to include all workers of Lear Corporation, Interior Systems Division, now known as International Automotive Components Group (IAC), Interior Systems Division who were adversely affected by increased imports.

The amended notice applicable to TA-W-60,870 is hereby issued as follows:

“All workers of Lear Corporation, Interior Systems Division, now known as International Automotive Components Group (IAC), Interior Systems Division, Sidney, Ohio, who became totally or partially separated from employment on or after January 25, 2006, through March 15, 2009, are eligible to apply for adjustment assistance under section 223 of the Trade Act of 1974, and are also eligible to apply for alternative trade adjustment assistance under section 246 of the Trade Act of 1974.”

Signed at Washington, DC, this 24th day of July, 2007.
Elliott S. Kushner,
Certifying Officer, Division of Trade Adjustment Assistance.

[FR Doc. E7-15004 Filed 8-1-07; 8:45 am]

BILLING CODE 4510-FN-P